DEPARTMENT OF AGRICULTURE

Agricultural Marketing Service

[Docket No. ST-02-05]

Microbiological Data Program; Public Meeting

AGENCY: Agricultural Marketing Service, USDA.

ACTION: Notice of public meeting.

SUMMARY: The purpose of this notice is to notify all interested persons that the USDA Agricultural Marketing Service (AMS) will hold a public meeting to discuss the Microbiological Data Program (MDP). Specifically, AMS will discuss the current status of the program and invite comment and input regarding the MDP activities to date. This notice also sets forth the schedule and proposed agenda for the meeting.

DATES: The public meeting will be held on Wednesday, November 20, 2002, from 1 to 4 p.m.

ADDRESSES: The public meeting will be held at the Hilton Garden Inn, Georgetown meeting room, 815-14th Street, NW., Washington, DC 20005.

FOR FURTHER INFORMATION CONTACT: Martha Lamont, Monitoring Programs Office, Science and Technology Programs, Agricultural Marketing Service, United States Department of Agriculture, 8609 Sudley Road, Manassas, Virginia, 20110-8411. Telephone number (703) 330-2300, Ext 17 or fax (703) 369-0678.

SUPPLEMENTARY INFORMATION: In the past several years the number of foodborne illness associated with domestic and imported fresh fruits and vegetables has increased. Some microorganisms once thought under control may be adapting to their environments, may be developing resistance to conventional food processing operations, and may be re-emerging with increased pathogenicity. To respond to these concerns, Congress authorized an appropriation of $6.234 million for FY 2002 to fund a microbiological monitoring program for foodborne pathogens and indicator organisms on domestic and imported fruits and vegetables. The program is designed to collect reliable data and develop national estimates of bacterial contamination with regard to selected produce. The MDP is a voluntary data gathering program and not a regulatory or enforcement program. The Federal agencies; Food and Drug Administration, Centers of Disease Control and Prevention, USDA's National Agricultural Statistical Service, as well as 10 State Departments of Agriculture, industry and academia have provided assistance and information in formulating program policy and operating procedures. The program is being conducted under the authority of the Agricultural Marketing Act of 1946 (7 U.S.C. 1621 et seq.).

AMS is hereby giving notice of a public meeting, scheduled for Wednesday, November 20, 2002, in order to keep all interested persons advised of the current status of the program and invite comment and input regarding the MDP activities to date. The public meeting will begin at 1 p.m. and is scheduled to end at 4 p.m. It will be held at the Hilton Garden Inn, Georgetown meeting room, 815-14th Street, NW., Washington, DC 20005.

Those parties who wish to speak at the meeting should register on or before November 13, 2002 to speak, please e-mail Martha.Lamont@USDA.gov, or send a fax to Martha Lamont at (703) 330-2300, Ext 17. Registrants should include their name, address, and daytime telephone number. Depending on the number of registered speakers, time limits may be imposed on speakers, and speakers who have registered in advance will be given priority if time is limited.

The proposed agenda for the meeting will include discussions of: (1) MDP overview and current status, (2) MDP sampling and testing methodology, (3) MDP Annual Summary Calendar Year 2002, and (4) recommendations and concerns.

Registration upon arrival is necessary for all participants, including those who have registered to speak in advance. Speakers should provide one original and two copies of their presentation at registration. A registration desk will be located outside the meeting room. If you require special accommodations, such as a sign language interpreter, please contact the person listed under FOR FURTHER INFORMATION CONTACT. The meeting will be recorded, and information about obtaining a transcript will be provided at the meeting.

Dated: October 22, 2002.
A.J. Yates,
Administrator, Agricultural Marketing Service.

[FR Doc. 02-27306 Filed 10-25-02; 8:45 am]

BILLING CODE 3410-02-P